FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 011117-050.

Title: United States/Australasia Discussion Agreement.

Parties: A.P. Moller-Maersk A/S; ANL Singapore Pte Ltd.; CMA-CGM; Compagnie Maritime Marfret S.A.; Hamburg-Süd; Hapag-Lloyd AG; and Mediterranean Shipping Company S.A.

Filing Party: Wayne R. Rohde, Esq.; Cozen O'Connor; 1627 I Street NW., Suite 1100; Washington, DC 20006-4007.

Synopsis: The amendment extends the duration of the existing minimum service levels set forth in the agreement.

Agreement No.: 012175.

Title: Hapag-Lloyd/NYK-Hanjin Shipping Slot Charter Agreement.

Parties: Hapag-Lloyd, Nippon Yusen Kaisha, and Hanjin Shipping Co. Ltd.

Filing Party: Wayne R. Rohde, Esquire, Cozen O'Connor, 1627 I Street NW., Suite 1100; Washington, DC 20006-4007.

Synopsis: The agreement authorizes Hanjin to charter space to Hapag-Lloyd and NYK on three of its services in the trade between the U.S. West Coast on the one hand, and ports in Korea, China, Taiwan, Thailand, Vietnam, Singapore and Japan on the other hand.

By Order of the Federal Maritime Commission.
Dated: June 8, 2012.
Karen V. Gregory,
Secretary.

[FR Doc. 2012-14439 Filed 6-12-12; 8:45 am]

BILLING CODE 6730-01-P